Title 3—

The President

Memorandum of January 31, 2014

Certification Concerning U.S. Participation in the United Nations Multidimensional Integrated Stabilization Mission in Mali Consistent With Section 2005 of the American Servicemembers' Protection Act

Memorandum for the Secretary of State

By the authority vested in me as President by the Constitution and the laws of the United States of America, and consistent with section 2005 of the American Servicemembers' Protection Act of 2002 (22 U.S.C. 7424), concerning the participation of members of the Armed Forces of the United States in certain United Nations peacekeeping and peace enforcement operations, I hereby certify that members of the U.S. Armed Forces participating in the United Nations Multidimensional Integrated Stabilization Mission in Mali are without risk of criminal prosecution or other assertion of jurisdiction by the International Criminal Court (ICC) because the Republic of Mali has entered into an agreement in accordance with Article 98 of the Rome Statute preventing the ICC from proceeding against members of the Armed Forces of the United States present in that country.

You are authorized and directed to publish this determination in the Federal Register.

THE WHITE HOUSE,

Washington, January 31, 2014

[FR Doc. 2014-03014

Filed 2-7-14; 11:15 am]

Billing code 4710-10